DEPARTMENT OF COMMERCE

International Trade Administration

[A-469-807]

Stainless Steel Wire Rod from Spain; Final Results of Antidumping Duty Administrative Review

AGENCY: Import Administration, International Trade Administration, Department of Commerce.

ACTION: Notice of final results of antidumping duty administrative review.

SUMMARY: On October 13, 2000, the Department of Commerce (the Department) published the preliminary results of the administrative review of the antidumping duty order on stainless steel wire rod (SSWR) from Spain (65 FR 60905). This review covers one manufacturer/exporter of the subject merchandise (Roldan S.A.). The period of review (POR) is March 5, 1998, through August 31, 1999.

Based on our analysis of the comments received, we have made changes in the margin calculation. Therefore, the final results differ from the preliminary results. The final weighted-average dumping margin for the reviewed firm is listed below in the section entitled “Final Results of Review.”

EFFECTIVE DATE: February 21, 2001.

FOR FURTHER INFORMATION CONTACT: Howard Smith or Lyman Armstrong, Office of AD/CVD Enforcement, Office 4, Group II, Import Administration, International Trade Administration, U.S. Department of Commerce, 14th Street and Constitution Avenue, NW., Washington, DC 20230; telephone (202) 482-3965 or (202) 482-3601, respectively.

SUPPLEMENTARY INFORMATION:

The Applicable Statute

Unless otherwise indicated, all citations to the Tariff Act of 1930, as amended (the Act), are references to the provisions effective January 1, 1995, the effective date of the amendments made to the Act by the Uruguay Round Agreements Act. In addition, unless otherwise indicated, all citations to the Department's regulations are to 19 CFR Part 351 (2000).

Background

On October 13, 2000, the Department published in the Federal Register the preliminary results of the administrative review of the antidumping duty order on SSWR from Spain. See Notice of Preliminary Results of Antidumping Duty Administrative Review: Stainless Steel Wire Rod from Spain, 65 FR 60905 (October 13, 2000).

In response to the Department's invitation to comment on the preliminary results of this review, ROLDAN, S.A. (Roldan) and petitioners (i.e., Empire Specialty Steel Inc. (formerly AL Tech Specialty Steel Corp.), Carpenter Technology Corp., Republic Engineered Steels, and the United Steel Workers of America (AFL-CIO/CLC)) filed case briefs on November 13, 2000. On November 20, 2000, Roldan filed a rebuttal brief.

The Department has conducted this administrative review in accordance with section 751 of the Act.

Scope of Review

For purposes of this review, SSWR comprises products that are hot-rolled or hot-rolled annealed and/or pickled and/or descaled rounds, squares, octagons, hexagons or other shapes, in coils, that may also be coated with a lubricant containing copper, lime, or oxalate.

SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar.

The most common size for such products is 5.5 millimeters or 0.217 inches in diameter, which represents the smallest size that normally is produced on a rolling mill and is the size that most wire-drawing machines are set up to draw. The range of SSWR sizes normally sold in the United States is between 0.20 inches and 1.312 inches in diameter. Two stainless steel grades, SF20T and K-M35FL, are excluded from the scope of the review. The chemical makeup for the excluded grades is as follows:

SF20T

Carbon: 0.05 max

Manganese: 2.00 max

Phosphorous: 0.05 max

Sulfur: 0.15 max

Silicon: 1.00 max

Chromium: 19.00/21.00

Molybdenum: 1.50/2.50

Lead: added (0.10/0.30)

Tellurium: added (0.03 min)

K-M35FL

Carbon: 0.015 max

Silicon: 0.70/1.00

Manganese: 0.40 max

Phosphorous: 0.04 max

Sulfur: 0.03 max

Nickel: 0.30 max.

Chromium: 12.50/14.00

Lead: 0.10/0.30

Aluminum: 0.20/0.35

The products under investigation are currently classifiable under subheadings 7221.00.0005, 7221.00.0015, 7221.00.0030, 7221.00.0045, and 7221.00.0075 of the Harmonized Tariff Schedule of the United States (HTSUS). Although the HTSUS subheadings are provided for convenience and customs purposes, the Department's written description of the scope of this review is dispositive.

Period of Review

The POR is March 5, 1998 through August 31, 1999.

Analysis of Comments Received

All issues raised in the case briefs by parties to this administrative review are addressed in the “Issues and Decision Memorandum” (Decision Memorandum) from Holly A. Kuga, Acting Deputy Assistant Secretary, Group II, Import Administration, to Bernard T. Carreau, fulfilling the duties of Assistant Secretary for Import Administration, dated February 12, 2001, which is hereby adopted by this notice. A list of the issues which parties have raised and to which we have responded, all of which are in the Decision Memorandum, is attached to this notice as an Appendix. Parties can find a complete discussion of all issues raised in this review and the corresponding recommendations in this public memorandum, which is on file in the Central Records Unit, room B-099, of the main Department building. In addition, a complete version of the Decision Memorandum can be accessed directly on the Web at http://ia.ita.doc.gov. The paper copy and electronic version of the Decision Memorandum are identical in content.

Use of Facts Available

In accordance with section 776 of the Act, we have determined that the use of facts available is appropriate for certain portions of our calculation of Roldan's U.S. indirect selling expenses. For a discussion of our determination with respect to this matter, see comment 2 of Decision Memorandum, accessible in B-099 and on the Web at http://ia.ita.doc.gov.

Changes Since the Preliminary Results

Based on our analysis of comments received, we have made certain changes in the margin calculation. These changes are discussed in the relevant sections of the Decision Memorandum.

Final Results of Review

We determine that the following weighted-average percentage margin exists for the period March 5, 1998 through August 31, 1999:

Manufacturer/exporter | Percent margin
Roldan, S.A. | 0.80

Assessment

The Department shall determine, and the U.S. Customs Service (Customs) shall assess, antidumping duties on all appropriate entries. In accordance with 19 CFR 351.212(b)(1), we have calculated importer-specific assessment rates based on the ratio of the total amount of antidumping duties calculated for the importer-specific sales to the total entered value of the same sales. Where the assessment rate is above de minimis, we will instruct Customs to assess duties on all entries of subject merchandise by that importer. The Department will issue appraisement instructions directly to Customs.

Cash Deposit Requirements

The following deposit requirements will be effective upon publication of this notice of final results of administrative review for all shipments of SSWR from Spain entered, or withdrawn from warehouse, for consumption on or after the date of publication, as provided by section 751(a)(1) of the Act: (1) the cash deposit rate for Roldan will be the rate shown above except if the rate is de minimis, then no cash deposit will be required; (2) for previously reviewed or investigated companies not covered in this review, the cash deposit rate will continue to be the company-specific rate published for the most recent period; (3) if the exporter is not a firm covered in this review, or the original less-than-fair-value (LTFV) investigation, but the manufacturer is, the cash deposit rate will be the rate established for the most recent period for the manufacturer of the merchandise; and (4) the cash deposit rate for all other manufacturers or exporters will be 4.73 percent, the “all-others” rate established in the LTFV investigation.

These deposit requirements, when imposed, shall remain in effect until publication of the final results of administrative review for a subsequent review period.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with 19 CFR 351.305. Timely notification of return/destruction of APO materials or conversion to judicial protective order is hereby requested. Failure to comply with the regulations and the terms of an APO is a sanctionable violation.

We are issuing and publishing this determination and notice in accordance with sections 751(a)(1) and 777(i) of the Act.

Dated: February 12, 2001.
Timothy J. Hauser,
Acting Under Secretary for International Trade.

Appendix—Issues in Decision Memorandum

Comments

1. Ministerial Errors

2. Allocation Methodology Used to Calculate U.S. Indirect Selling Expenses

[FR Doc. 01-4283 Filed 2-20-01; 8:45 am]

BILLING CODE 3510-DS-P